ENVIRONMENTAL PROTECTION AGENCY

[EPA-HQ-OAR-2003-0079; FRL-8296-8]

Agency Information Collection Activities; Submission To OMB for Review and Approval; 8-hour Ozone National Ambient Air Quality Standard Implementation Rule, EPA ICR Number 2236.02, OMB Control Number 2060-0594

AGENCY: Environmental Protection Agency (EPA).

ACTION: Notice.

SUMMARY: In compliance with the Paperwork Reduction Act (44 U.S.C. 3501 et seq.), this document announces that an Information Collection Request (ICR) has been forwarded to the Office of Management and Budget (OMB) for review and approval. This is a request to renew an existing approved collection. The ICR which is abstracted below describes the nature of the collection and the estimated burden and cost.

DATES: Additional comments may be submitted on or before May 10, 2007.

ADDRESSES: Submit your comments, referencing docket ID number EPA-OAR-HQ-2003-0079, to (1) EPA online using www.regulations.gov (our preferred method), or by e-mail to docket.oeca@epa.gov, or by mail to: EPA Docket Center (EPA/DC), Environmental Protection Agency, Air Docket, Mail Code 6102T, 1200 Pennsylvania Avenue, NW., Washington, DC 20460, and (2) OMB at: Office of Information and Regulatory Affairs, Office of Management and Budget (OMB), Attention: Desk Officer for EPA, 725 17th Street, NW., Washington, DC 20503.

FOR FURTHER INFORMATION CONTACT: Butch Stackhouse, Air Quality Policy Division, Office of Air Quality Planning and Standards, Mail Code C539-01, Research Triangle Park, North Carolina 27711, telephone number (919) 541-5208, facsimile number (919) 541-0824, electronic mail e-mail address: stackhouse.butch@epa.gov.

SUPPLEMENTARY INFORMATION: EPA has submitted the following ICR to OMB for review and approval according to the procedures prescribed in 5 CFR 1320.12. On November 15, 2006 (71 FR 66515), EPA sought comments on this ICR pursuant to 5 CFR 1320.8(d). EPA received no comments. Any additional comments on this ICR should be submitted to EPA and OMB within 30 days of this notice.

EPA has established a public docket for this ICR under docket ID number EPA-OAR-HQ-2003-0079, which is available for public viewing online at http://www.regulations.gov, or in person viewing at the Air Docket in the EPA Docket Center (EPA/DC), EPA West, Room 3334, 1301 Constitution Avenue, NW., Washington, DC. The EPA Docket Center Public Reading Room is open from 8:30 a.m. to 4:30 p.m., Monday through Friday, excluding legal holidays. The telephone number for the Reading Room is (202) 566-1744, and the telephone number for the Air Docket is (202) 566-1742.

Use EPA's electronic docket and comment system at http://www.regulations.gov, to submit or view public comments, access the index listing of the contents of the docket, and to access those documents in the docket that are available electronically. Once in the system, select “docket search,” then key in the docket ID number identified above. Please note that EPA's policy is that public comments, whether submitted electronically or in paper, will be made available for public viewing at http://www.regulations.gov, as EPA receives them and without change, unless the comment contains copyrighted material, CBI, or other information whose public disclosure is restricted by statute. For further information about the electronic docket, go to www.regulations.gov.

Title: 8-Hour Ozone National Ambient Air Quality Standard Implementation Rule.

ICR Numbers: EPA ICR Number 2236.02, OMB Control Number 2060-0594.

ICR Status: This ICR is scheduled to expire on April 30, 2007. Under OMB regulations, the Agency may continue to conduct or sponsor the collection of information while this submission is pending at OMB. An Agency may not conduct or sponsor, and a person is not required to respond to, a collection of information unless it displays a currently valid OMB control number. The OMB control numbers for EPA's regulations in title 40 of the CFR, after appearing in the Federal Register when approved, are listed in 40 CFR part 9, and displayed either by publication in the Federal Register or by other appropriate means, such as on the related collection instrument or form, if applicable. The display of OMB control numbers in certain EPA regulations is consolidated in 40 CFR part 9.

Abstract: The Paperwork Reduction Act requires the information found in this Information Collection Request (ICR) number 2236.02, to assess the burden (in hours and dollars) of the 8-hour Ozone National Ambient Air Quality Standard Implementation (NAAQS) Rule as well as the periodic reporting and recordkeeping necessary to maintain the rule. The rule was proposed June 2, 2003 (68 FR 32802) and promulgated in two Phases: Phase 1 published April 30, 2004 (69 FR 23951) and Phase 2 published November 29, 2005 (70 FR 71612). The preamble to the proposed and final regulation addressed the administrative burden in general terms. The preamble to the final Phase 2 rule stated that an ICR would be prepared (70 FR at 71692). The rule includes requirements that involve collecting information from States with areas that have been designated nonattainment for the 8-hour ozone NAAQS. The time period covered in this ICR is a three year period from May 1, 2007 through April 30, 2010. The information collection milestones include State submission of an attainment demonstration State Implementation Plan (SIP), a Reasonable Further Progress (RFP) SIP submission, and a Reasonable Available Control Technology (RACT) SIP. However, not all of the milestones and associated burden and administrative cost estimates apply to every designated nonattainment area. Areas with cleaner air quality have fewer requirements.

Burden Statement: The annual public reporting and recordkeeping burden for this collection of information is estimated to average 9,511 hours per response. Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements which have subsequently changed; train personnel to be able to respond to a collection of information; search data sources; complete and review the collection of information; and transmit or otherwise disclose the information.

Respondents/Affected Entities: State and local governments.

Estimated Number of Respondents: 30.

Frequency of Response: Annual.

Estimated Total Annual Hour Burden: 285,333.

Estimated Total Annual Cost: $17,400,000 includes $0 annualized capital or O&M costs.

Changes in the Estimates: There is no increase in the total estimated burden currently identified in the OMB Inventory of Approved ICR Burdens.

Dated: April 2, 2007.
Robert Gunter,
Acting Director, Collection Strategies Division.

[FR Doc. E7-6707 Filed 4-9-07; 8:45 am]

BILLING CODE 6560-50-P